CORPORATION FOR NATIONAL AND COMMUNITY SERVICE

Information Collection; Submission for OMB Review; Comment Request

AGENCY: Corporation for National and Community Service.

ACTION: Notice.

SUMMARY: The Corporation for National and Community Service (hereinafter the ”Corporation”), has submitted a public information collection request (ICR) entitled Volunteer and Service Recipient Survey Components of the Senior Corps Performance Surveys to the Office of Management and Budget (OMB) for review and approval in accordance with the Paperwork Reduction Act of 1995, Public Law 104-13, (44 U.S.C. Chapter 35). Copies of this ICR, with applicable supporting documentation, may be obtained by calling the Corporation for National and Community Service, Mr. Nathan Dietz, at (202) 606-6663, (Ndietz@cns.gov). Individuals who use a telecommunications device for the deaf (TTY-TDD) may call (202) 606-3472 between 8:30 a.m. and 5 p.m. Eastern time, Monday through Friday.

ADDRESSES: Comments may be submitted, identified by the title of the information collection activity, to Office of Information and Regulatory Affairs, Attn: Ms. Rachel Potter, OMB Desk Officer for the Corporation for National and Community Service, by any of the following two methods within 30 days from the date of publication in this Federal Register:

(a) By fax to: (202) 395-6974, Attention: Ms. Rachel Potter, OMB Desk Officer for the Corporation for National and Community Service; and

(b) Electronically by e-mail to: Rachel_F._Potter@omb.eop.gov.

SUPPLEMENTARY INFORMATION: The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Comments: A 60-day public comment Notice, regarding all the component surveys of the Senior Corps Performance Surveys was published in the Federal Register on November 25, 2005. This comment period ended on January 24, 2006. No public comments were received from this notice.

Description: The Corporation for National and Community Service (CNCS) is requesting comments on plans to conduct the Volunteer and Service Recipient Survey Components of the Senior Corps Performance Surveys for the three major programs, Foster Grandparent Program, Senior Companion Program, and RSVP (Retired and Senior Volunteer Program). This study is being conducted under contract with Westat, Inc. (#CNCSHQC03003, Task Order #WES03T001) to collect information about local project outcomes of volunteer service. This information is to be used by the Corporation in preparing its Annual Performance Reports as well as for responding to ad hoc requests from Congress and other interested parties.

Type of Review: Revision to an existing data collection.

Agency: Corporation for National and Community Service.

Title: Volunteer and Service Recipient Survey Components of the Senior Corps Performance Surveys.

OMB Number: 3045-0098.

Agency Number: None.

Affected Public: Foster Grandparent Program, Senior Companion Program, and RSVP (Retired and Senior Volunteer Program) volunteers.

Type of Respondents: Senior Corps volunteers and service recipients.

Total Respondents: 4,500.

Frequency: On occasion.

Estimated Total Burden Hours: 1,567 hours total for all respondents.

Total Burden Cost (capital/startup): None.

Total Burden Cost (operating/maintenance): None.

Dated: March 14, 2006.
Robert T. Grimm, Jr.,
Director, Office of Research and Policy Development.

[FR Doc. E6-3970 Filed 3-17-06; 8:45 am]

BILLING CODE 6050-$$-P